ENVIRONMENTAL PROTECTION AGENCY

[FRL-7654-2]

Science Advisory Board Staff Office; New Contact Information for the EPA Science Advisory Board Staff Office; Update on a Previously Announced Meeting of the SAB Drinking Water Committee

AGENCY: Environmental Protection Agency (EPA).

ACTION: Notice.

SUMMARY: The EPA Science Advisory Board (SAB) Staff Office has moved to a new location with a new mailing address, telephone and facsimile numbers, listed below. These changes are effective immediately. The SAB Staff Office announces updates to the public face-to-face meeting of the SAB Drinking Water Commitee (DWC) to review the Agency's Drinking Water Research Program Multi-Year Plan.

SUPPLEMENTARY INFORMATION:

1. New SAB Staff Office Addresses, Telephone and Facsimile Numbers

U.S. Postal Mailing Address: U.S. EPA Science Advisory Board, Mail Code 1400F, 1200 Pennsylvania Avenue, NW., Washington DC 20460.

Express/FedEx/Courier Delivery Address: U.S. EPA Science Advisory Board, Woodies Building, 1025 F Street, NW., Suite 3600, Washington, DC 20004.

Phone Numbers: Main Office (202) 343-9999; facsimile (202) 233-0643.

2. SAB DWC Face-to-Face Meeting Updates

Background: Information on this review previously appeared in 69 FR 13829 (March 24, 2004). This update provides: (a) A deadline for requesting an opportunity to be placed on the public speaker list for the DWC meeting, and (b) contact information for the new Designated Federal Officer (DFO) responsible for the SAB.

(a) Date: May 17, 2004. Interested parties should contact the DFO in writing via e-mail, fax, or letter no later than noon, eastern daylight time on May 17, 2004, to be placed on the public speaker list.

(b) New DFO Contact: Any member of the public wishing further information regarding the SAB DWC may contact Dr. Suhair Shallal, Designated Federal Officer (DFO), U.S. EPA Science Advisory Board via phone (202-343-9977) or e-mail at shallal.suhair@epa.gov, or at the new addresses provided above.

Dated: April 19, 2004.
Vanessa T. Vu,
Director, EPA Science Advisory Board Staff Office.

[FR Doc. 04-9562 Filed 4-26-04; 8:45 am]

BILLING CODE 6560-50-P